DEPARTMENT OF THE TREASURY

Office of Foreign Assets Control

Sanctions Actions Pursuant to Executive Order 13413

AGENCY: Office of Foreign Assets Control, Treasury.

ACTION: Notice.

SUMMARY: The Treasury Department's Office of Foreign Assets Control (OFAC) is publishing the names of two individuals whose property and interests in property are blocked pursuant to Executive Order (E.O.) 13413, as amended by E.O. 13671, and whose names have been added to OFAC's list of Specially Designated Nationals and Blocked Persons (SDN List).

DATES: OFAC's actions described in this notice were effective December 12, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac).

Notice of OFAC Actions

On December 12, 2016, OFAC blocked the property and interests in property of the following two individuals pursuant to E.O. 13413, “Blocking Property of Certain Persons Contributing to the Conflict in the Democratic Republic of the Congo,” as amended:

1. MUTONDO, Kalev (a.k.a. KALEV KATANGA, Mutondo; a.k.a. KALEV, Motono; a.k.a. KALEV, Mutundo; a.k.a. MUTOID, Kalev; a.k.a. MUTOMBO, Kalev; a.k.a. MUTOND, Kalev; a.k.a. MUTONDO KATANGA, Kalev; a.k.a. MUTUND, Kalev), 24 Avenue Ma Campagne, Quartier Ma Campagne Commune De Ngaliema, Kinshasa 00243, Congo, Democratic Republic of the; DOB 03 Mar 1957; POB Kasaji, Democratic Republic of the Congo; alt. POB Likasi, Katanga, Democratic Republic of the Congo; nationality Congo, Democratic Republic of the; Gender Male; Passport DB0004470 (Congo, Democratic Republic of the) issued 08 Jun 2012 expires 07 Jun 2017; Agence Nationale de Renseignements General Administrator (individual) [DRCONGO].

2. BOSHAB, Evariste (a.k.a. BOSHAB MABUDJ MA BILENGE, Evariste; a.k.a. BOSHAB MABUDJ, Evariste; a.k.a. BOSHAB MABUDJ-MA-BILENGE, Evariste; a.k.a. BOSHAB MABUTSH, Evariste; a.k.a. BOSHAB, Evarist; a.k.a. MULUMBU BOSHAB, Evariste), Avenue du Rail 5, Ngaliema, Kinshasa, Congo, Democratic Republic of the; DOB 12 Jan 1956; POB Teke-Kalamba, Democratic Republic of the Congo; alt. POB Kasai Occidentale Province, Democratic Republic of the Congo; nationality Congo, Democratic Republic of the; Gender Male; Passport DB0007366 (Congo, Democratic Republic of the) issued 07 May 2014 expires 06 May 2019; Deputy Prime Minister, Vice Prime Minister, Minister of Interior and Security (individual) [DRCONGO].

Dated: December 12, 2016.
John E. Smith,
Acting Director, Office of Foreign Assets Control.

[FR Doc. 2016-30138 Filed 12-14-16; 8:45 am]

BILLING CODE 4810-AL-P